DEPARTMENT OF ENERGY

Federal Energy Regulatory Commission

[Docket No. CP14-484-000]

WBI Energy Transmission, Inc.; Notice of Request Under Blanket Authorization

Take notice that on May 9, 2014 WBI Energy Transmission, Inc. (WBI Energy), 1250 West Century Avenue, Bismarck, North Dakota 58503, filed in the above Docket, a prior notice request pursuant to sections 157.205 and 157.210 of the Commission's regulations under the Natural Gas Act (NGA) and WBI Energy's blanket authorization in CP82-487-000 et al., for authorization to construct and operate approximately 16.8 miles of 12-inch diameter steel pipeline located in Butte and Lawrence Counties, South Dakota, all as more fully set forth in the application which is on file with the Commission and open to public inspection. The filing may also be viewed on the web at http://www.ferc.gov using the “eLibrary” link. Enter the docket number excluding the last three digits in the docket number field to access the document. For assistance, please contact FERC Online Support at FERCOnlineSupport@ferc.gov or toll free at (866) 208-3676, or TTY, contact (202) 502-8659.

Any questions concerning this application may be directed to Keith A. Tiggelaar, Director of Regulatory Affairs, WBI Energy Transmission, Inc., 1250 West Century Avenue, Bismarck, North Dakota 58503, (701) 530-1560 (email: keith.tiggelaar@wbienergy.com).

Specifically, WBI Energy proposes to construct pipeline from approximately 1 mile northeast of the town of Belle Fourche to approximately 1.5 miles northwest of the town of Whitewood. Proposed pipeline will run parallel to WBI Energy's existing line. The pipeline maximum allowable operating pressure will be 470 psi. WBI Energy states that proposed pipeline is required to provide 12,500 dekatherms per day of additional incremental firm service to Montana-Dakota Unilities Co. (Montana-Dakota). This capacity is under a precedent agreement between WBI Energy and Montana-Dakota. Target construction start date is June, 2014. Target service date is November 1, 2014. WBI Energy states that the project will cost approximately $10.5 million.

Pursuant to section 157.9 of the Commission's rules, 18 CFR 157.9, within 90 days of this Notice the Commission staff will either: Complete its environmental assessment (EA) and place it into the Commission's public record (eLibrary) for this proceeding; or issue a Notice of Schedule for Environmental Review. If a Notice of Schedule for environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the Natural Gas Act (NGA) (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a) (1) (iii) and the instructions on the Commission's Web site (www.ferc.gov) under the “e-Filing” link.

Dated: May 20, 2014.
Kimberly D. Bose,
Secretary.

[FR Doc. 2014-12197 Filed 5-27-14; 8:45 am]

BILLING CODE 6717-01-P